DEPARTMENT OF ENERGY

Federal Energy Regulatory Commission

[Docket No. RP95-409-012]

Northwest Pipeline Corporation; Notice of Refund and Surcharge Offset Reports

September 7, 2001.

Take notice that on August 31, 2001, Northwest Pipeline Corporation (Northwest) tendered for filing its Refund and Surcharge Offset Reports in connection with its Docket No. RP95-409 and Docket Nos. RP93-5 and RP93-96 general rate proceedings.

Northwest states that the purpose of this filing is to provide the derivation of the refunds and surcharge offsets including applicable interest for each of its customers during the effective periods of the above referenced proceedings.

Northwest states that it has served a copy of this filing upon each person designated on the official service lists compiled by the Secretary in these proceedings.

Any person desiring to protest said filing should file a protest with the Federal Energy Regulatory Commission, 888 First Street, NE., Washington, DC 20426, in accordance with section 385.211 of the Commission's Rules and Regulations. All such protests must be filed on or before September 14, 2001. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-23104 Filed 9-14-01; 8:45 am]

BILLING CODE 6717-01-P